NATIONAL FOUNDATION ON THE ARTS AND HUMANITIES

National Endowment for the Arts

Submission of OMB Review: Comment Request

The National Endowment for the Arts (NEA) has submitted the following public information collection request (ICR) to the Office of Management and Budget (OMB) for review and approval in accordance with the Paperwork Reduction Act of 1995 [Pub. L. 104-13, 44 U.S.C. Chapter 35]. Copies of the ICR, with applicable supporting documentation, may be obtained by contacting Angelia Richardson via telephone at 202-682-5454 (this is not a toll-free number) or e-mail at richarda@arts.gov. Individuals who use a telecommunications device for the deaf (TTY/TDD) may call 202-682-5496 between 10 a.m. and 4 p.m. Eastern time, Monday through Friday.

Comments should be sent to the Office of Information and Regulatory Affairs, Attn: OMB Desk Officer for the National Endowment for the Arts, Office of Management and Budget, Room 10235, Washington, DC 20503, 202-395-7316, within 30 days from the date of this publication in the Federal Register.

The Office of Management and Budget (OMB) is particularly interested in comments which:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated, electronic, mechanical, or other technological collection techniques, or other forms of information technology, e.g., permitting electronic submission of responses.

Agency: National Endowment for the Arts.

Title: Section 504 Self-Evaluation Workbook.

OMB Number: 3135-0101/Reinstatement.

Frequency: Annually.

Affected Public: Nonprofit organizations, state and local arts agencies.

Estimated Number of Respondents: 2,200.

Estimated Time per Respondent: Four (4) hours.

Total Burden Hours: 8,800.

Total Annualized Capital/Startup Costs: 0.

Total Annual Costs (Operating/Maintaining Systems or Purchasing Services): 0.

Description: The collection of this information is required of recipients of Federal financial assistance to comply with the Administrative requirements of Section 504 of the Rehabilitation Act of 1973, as amended. Completion of a self-evaluation is specifically addressed in CFR Title 45, Subpart D, subsection 1151.42. The Arts Endowment plans to make available to our grantees the Section 504 Self-Evaluation Workbook to assist them in evaluating the accessibility of their programs, activities, policies and practices to insure compliance with the 504 regulations.

Addresses: Angelia Richardson, National Endowment for the Arts, 1100 Pennsylvania Avenue, NW., Room 219, Washington, DC 20506-0001, telephone (202) 682-5454 (this is not a toll-free number), fax (202) 682-5553.

Kathleen Edwards,
Support Services Supervisor, Administrative Services,National Endowment for the Arts.

[FR Doc. E9-6562 Filed 3-24-09; 8:45 am]

BILLING CODE 7537-01-P